DEPARTMENT OF COMMERCE

National Oceanic and Atmospheric Administration

50 CFR Part 679

RIN 0648-XA633

Fisheries of the Exclusive Economic Zone Off Alaska; Allocating Gulf of Alaska Fishery Resources; Notice of Rockfish Program Public Workshops

AGENCY: National Marine Fisheries Service (NMFS), National Oceanic and Atmospheric Administration (NOAA), Commerce.

ACTION: Notice of public workshops.

SUMMARY: NMFS will present two public workshops on the Central Gulf of Alaska Rockfish Program (Rockfish Program) for potentially eligible participants and other interested parties. At each workshop, NMFS will provide an overview of the proposed Rockfish Program, discuss the key differences between the Rockfish Program and the Rockfish Pilot Program, provide information on the proposed rule comment process, and answer questions. NMFS is conducting these public workshops to assist fishery participants in understanding and reviewing the proposed rule that would implement this new Rockfish Program.

DATES: Two workshops will be held on the following dates:

1. Monday, August 29, 2011, 1 p.m. to 3 p.m. Alaska Daylight Time, Kodiak, AK.

2. Tuesday, August 30, 2011, 5 p.m. to 7 p.m. Pacific Daylight Time, Seattle, WA.

ADDRESSES: The workshops will be held at the following locations:

1. Kodiak—Kodiak Fisheries Research Center (Main Conference Room), 301 Research Court, Kodiak, AK 99615.

2. Seattle—Mountaineers Program Center (Cascade Room), 7700 Sand Point Way, NE, Seattle, WA 98115.

FOR FURTHER INFORMATION CONTACT: Gwen Herrewig, 907-586-7091.

SUPPLEMENTARY INFORMATION: On July 28, 2011 (76 FR 45217), NMFS published a Notice of Availability to implement the proposed Central Gulf of Alaska (GOA) Rockfish Program as Amendment 88 to the Fishery Management Plan for Groundfish of the Gulf of Alaska. NMFS anticipates publication of the proposed rule to implement the Central GOA Rockfish Program prior to workshop held in Kodiak on Monday, August 29, 2011. The proposed Rockfish Program is necessary to replace the Central Gulf of Alaska Rockfish Pilot Program (Pilot Program) that is scheduled to expire December 31, 2011. Amendment 88 was approved by the North Pacific Fishery Management Council (Council) on June 14, 2010. Although some modifications were recommended by the Council, the proposed Rockfish Program would retain the conservation, management, safety, and economic gains realized under the Pilot Program. The recommended modifications would improve the functionality of the Rockfish Program and resolve identified issues in the management and viability of the fisheries. The proposed Rockfish Program would include similar implementation, management, monitoring, and enforcement measures to those developed under the Pilot Program, however, the new program would:

• Change the qualifying years for eligibility of quota share (QS);

• Use a different suite of years to determine the allocation of QS and sideboard limits;

• Assign to rockfish cooperatives a specific portion of the Central GOA total allowable catch of species historically harvested in the rockfish fisheries;

• Assign a specific amount of halibut prohibited species catch to cooperatives and conserve a portion of the halibut that will remain unallocated;

• Restrict the entry level fishery to longline gear only;

• Relax the requirements to form a cooperative;

• Specify the location where harvesters in cooperatives may deliver rockfish;

• Remove the requirement that harvesters in a catcher vessel cooperative deliver to a specific processor;

• Discontinue the limited access fishery;

• Simplify sideboards, and slightly modify sideboards for catcher/processors;

• Implement a cost recovery program, except for the entry level longline fishery;

• Establish a catch monitoring and control plan specialist; and

• Be authorized for 10 years, from January 1, 2012, until December 31, 2021.

NMFS is conducting public workshops for fishery participants to provide assistance in reviewing the proposed requirements of this new program. At each workshop, NMFS will provide an overview of the proposed Rockfish Program, discuss the key differences between the Rockfish Program and the Pilot Program, and provide information on the public comment process for the proposed rule. NMFS anticipates discussing key elements of the proposed Rockfish Program at the meeting, such as eligibility and the QS application process; cooperative and opt-out provisions; entry level longline fishery, sideboards, deliveries, and cooperative quota transfer provisions; monitoring and enforcement; and electronic reporting. Additionally, NMFS will answer questions from workshop participants. For further information on the proposed Rockfish Program, please visit the NMFS Alaska Region Web site at http://alaskafisheries.noaa.gov.

Special Accommodations

These workshops are physically accessible to people with disabilities. Requests for special accommodations should be directed to Gwen Herrewig (see FOR FURTHER INFORMATION CONTACT) at least 5 working days before the workshop date.

Dated: August 17, 2011.
Galen Tromble,
Acting Director, Office of Sustainable Fisheries, National Marine Fisheries Service.

[FR Doc. 2011-21421 Filed 8-19-11; 8:45 am]

BILLING CODE 3510-22-P